DEPARTMENT OF EDUCATION

Submission for OMB Review; Comment Request

AGENCY: Department of Education.

ACTION: Correction notice.

SUMMARY: On January 21, 2000, a 30-day notice inviting comment from the public was published for the Reference and Reporting Guide for Preparing State and Institutional Report on Teacher Quality and Preparation in the Federal Register (Volume 65, Number 14) dated January 21, 2000. The Leader, Information Management Group, Office of the Chief Information Officer, hereby issues a correction notice on the submission for OMB review as required by the Paperwork Reduction Act of 1995. The sentence, “Annual reports from institutions are due to states, beginning April 7, 2000” should read, “Annual reports from institutions are due to states, beginning April 7, 2001”.

DATES: Interested persons are invited to submit comments on or before February 22, 2000.

ADDRESSES: Written comments should be addressed to the Office of Information and Regulatory Affairs, Attention: Danny Werfel, Desk Officer, Department of Education, Office of Management and Budget, 725 17th Street, N.W., Room 10235, New Executive Office Building, Washington, DC 20503 or should be electronically mailed to the internet address DWERFEL@OMB.EOP.GOV.

Requests for copies of the proposed information collection request may be accessed from http://edicsweb.ed.gov, or should be addressed to Vivian Reese, Department of Education, 400 Maryland Avenue, SW, Room 5624, Regional Office Building 3, Washington, DC 20202-4651 or should be electronically mailed to the internet address OCIO_IMB_Issues@ed.gov, or should be faxed to 202-708-9346.

FOR FURTHER INFORMATION CONTACT: Joseph Schubart (202) 708-9266.

Dated: January 21, 2000.
William E. Burrow,
Leader, Information Management Group, Office of the Chief Information Officer.

[FR Doc. 00-1916 Filed 1-26-00; 8:45 am]

BILLING CODE 4000-01-P